DEPARTMENT OF THE INTERIOR

Bureau of Land Management

[A2407-014-004-065516; #O2412-014-004-047181.1; LLESJ00000]

Right-of-Way Application; Tennessee

AGENCY: Bureau of Land Management, Interior.

ACTION: Notice of application.

SUMMARY: The purpose of this notice is to inform the public that the Bureau of Land Management (BLM) has received a right-of-way (ROW) application from East Tennessee Natural Gas, LLC (ETNG) for a natural gas pipeline that is proposed to cross Trousdale, Smith, Jackson, Putnam, Overton, Fentress, Morgan, and Roane counties, Tennessee. The BLM anticipates deciding on the pipeline ROW application after the publication of this notice, including any associated terms and conditions, if approved.

DATES: On December 30, 2024, the Federal Energy Regulatory Commission (FERC) published a notice of availability in the Federal Register (FR 2024-31338) for the Final Environmental Impact Statement (FEIS) regarding the 30-inch natural gas pipeline and appurtenant facilities.

ADDRESSES: The ROW application and maps of the project are available for review at the BLM Southeastern States District Office located at 273 Market Street, Flowood, Mississippi 39232. The FEIS is publicly available to view and download on the FERC eLibrary at the following website https://elibrary.ferc.gov/eLibrary/filelist?accession_num=20241220-3002.

FOR FURTHER INFORMATION CONTACT: Brian Kennedy, Acting Deputy District Manager, telephone: (601) 919-4697; address: 273 Market Street, Flowood, MS 39232; email: bckennedy@blm.gov. Individuals in the United States who are deaf, deafblind, hard of hearing, or have a speech disability may dial 711 (TTY, TDD, or TeleBraille) to access telecommunications relay services for contacting Mr. Kennedy. Individuals outside the United States should use the relay services offered within their country to make international calls to the point-of-contact in the United States.

SUPPLEMENTARY INFORMATION: ETNG has applied for a BLM ROW for a 30-inch diameter pipeline and related facilities that involve approximately 5 miles of Federal lands managed by the U.S. Army Corps of Engineers and Tennessee Valley Authority. The total length of the natural gas pipeline is approximately 122.2 miles, of which approximately 111.4 miles of the pipeline would be co-located within existing utility ROW and transmission corridors. For more detailed information regarding the application, maps, and overall project, refer to the ADDRESSES section above.

(Authority: 43 CFR 2884.20)

Shayne Banks,
Acting District Manager, Southeastern States District.

[FR Doc. 2025-14387 Filed 7-29-25; 8:45 am]

BILLING CODE 4331-18-P